DEPARTMENT OF HOUSING AND URBAN DEVELOPMENT

[Docket No. FR-7075-N-15]

60-Day Notice of Proposed Information Collection: Evaluation of Green and Resilient Retrofit Program; OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 19, 2024.

ADDRESSES: Interested persons are invited to submit comments regarding this proposal.

Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Evaluation of Green and Resilient Retrofit Program.

OMB Approval Number: 2528-NEW.

Type of Request: New Collection.

Form Number: N/A.

Description of the need for the information and proposed use: The Office of Policy Development and Research (PD&R), at the U.S. Department of Housing and Urban Development (HUD), is proposing the collection of information to support an evaluation of the Green and Resilient Retrofit Program (GRRP). GRRP is a newly funded program through Section 30002 of the Inflation Reduction Act of 2022 (H.R. 5376) titled “Improving Energy Efficiency or Water Efficiency or Climate Resilience of Affordable Housing.” HUD is offering GRRP funding in the form of grants or loans through three award cohorts designed to meet the needs of properties in different situations, implemented through three parallel Notices of Funding Opportunities (NOFOs). These award cohorts are the Elements Award cohort, the Leading Edge Award cohort, and the Comprehensive Award cohort. Under all three award cohorts, owners of eligible HUD-assisted multifamily properties will receive funding in the form of grants or loans to undertake retrofits, enhancements, and upgrades to improve energy and water efficiency, indoor air quality, and climate hazard resilience; to reduce emissions; to use renewable energy; and/or to use low Embodied Carbon materials.

The “Elements” NOFO provides modest funding to owners to add proven and meaningful climate resilience, energy efficiency, electrification, and renewable energy measures to the construction scopes of in-progress recapitalization transactions. The “Leading Edge” NOFO provides funding for retrofit activities to achieve ambitious outcomes, including net zero, renewable energy generation, use of building materials with lower Embodied Carbon, and climate resilience investments. The “Comprehensive” NOFO will provide funding to initiate recapitalization investments designed from inception around both proven and innovative measures, including ambitious green building standards or measures, renewable energy generation, use of building materials with lower Embodied Carbon, and climate resilience investments.

The Evaluation of Green and Resilient Retrofit Program (GRRP Evaluation) will be implemented in phases. Under Phase 1, HUD plans to collect survey and interview data related to the application process, the scoping and design phase of GRRP, and the post-construction period.

(1) GRRP Application Survey: The application survey and interview will provide data necessary to assess the success of the application process, which is influenced by property owners' perceptions of the design of the application and the program.

(2) GRRP Scoping and Design Survey: The survey and interview related to the scoping and design phase of GRRP will provide data necessary to evaluate the process of implementing the program, including what went well and what barriers were encountered. It will cover issues related to activities such as developing the transaction plan and closing package, and designing the retrofit.

(3) GRRP Post-Construction Survey: The post-construction survey and interview will provide data necessary to evaluate how well the program worked in terms of the perceived costs and benefits to property owners, including questions related to construction, such as whether property owners encountered barriers with construction.

This Federal Register Notice provides an opportunity to comment on the information collection for the Evaluation of the Green and Resilient Retrofit Program (GRRP Evaluation).

Respondents: Owners of HUD-assisted multifamily properties eligible for GRRP. Awardees and non-awardee applicants will be sampled using a stratified design with stratification on cohort, region, and the size of the owner (e.g., small owners of properties vs. large corporate property owners). Eligible non-applicants will be chosen using a stratified design with stratification on region and size of the owner from Office of Recapitalization's database of eligible properties minus applicants. Interviews will be conducted with a subset of property owners; this sample will be chosen based on a combination of stratified sampling (using the same approach as sampling the awardees for the survey; approximately 38% of interview sample) and purposive sampling (approximately 62% of interview sample) stemming from inclusion in case studies and/or survey responses benefitting from in-depth follow-up. We will provide accommodations to the greatest extent possible. Property owners with hearing impairments can be accommodated through a web-based version of the data collection, and visually impaired property owners can be accommodated through a telephone-based version of the data collection. We will use translation services as needed, but we do not expect language barriers to be a significant concern because property owners are already required to submit their information to HUD in English.

Estimated Number of Respondents: This information collection will affect a maximum of 900 respondents, including approximately 450 grantees, 225 applicant owners who did not receive grants or loans (Application Survey only), and 225 eligible non-applicants (Application Survey only). Interviews will be collected from approximately 40 grantees across all three cohorts.

Estimated Time per Responses: The expected time per response varies by instrument. Reading the Outreach Materials is estimated to take a maximum of 0.1 hours. For the Application Survey, expected time per response is a maximum of 0.5 hours. Expected time per response for the Scoping and Design and Post-Construction surveys is a maximum of 0.75 hours each. Expected time per interview is a maximum of 1 hour.

Frequency of Response:

• 1 time for non-applicants and applicant non-awardees (only surveyed in the Application Survey);

• 3-6 times for awardees (surveyed in the Application Survey, Scoping and Design Survey, and Post-Construction Survey; subset also interviewed in depth regarding Application, Scoping and Design, and Post-Construction).

Average Hours per Response: 0.5 hours/application survey, 0.75 hours/scoping and design survey, 0.75 hours/post-construction survey, and 1 hour/interview.

Estimated Total Annual Cost: The total estimated cost for the proposed data collection is $108,082.

The Table below provides the estimated burden hours for the planned surveys and interviews. These estimates assume the maximum targeted number of study participants and are calculated as the time needed to complete individual surveys and interviews. To estimate the hourly cost per respondent, HUD used the average hourly compensation (wages and benefits) of private workers who are in management, business, and financial occupations, according to the U.S. Bureau of Labor Statistics' Employer Costs for Employee Compensation Survey from June 2023 (https://www.bls.gov/news.release/pdf/ecec.pdf).

Information collection | Number of respondents | Frequency of response | Responses per annum | Burden hour per response | Annual burden hours | Hourly cost per response | Annual cost
Outreach Materials to Sample | 900 | 1 | 1 | 0.1 | 90 | $80.96 | $7,286
GRRP Application Survey | 900 | 1 | 1 | 0.5 | 450 | 80.96 | 36,432
GRRP Scoping and Design Survey | 450 | 1 | 1 | 0.75 | 337.5 | 80.96 | 27,324
GRRP Post-Construction Survey | 450 | 1 | 1 | 0.75 | 337.5 | 80.96 | 27,324
GRRP Application Interview | 40 | 1 | 1 | 1.0 | 40 | 80.96 | 3,238
GRRP Scoping and Design Interview | 40 | 1 | 1 | 1.0 | 40 | 80.96 | 3,238
GRRP Post-Construction Interview | 40 | 1 | 1 | 1.0 | 40 | 80.96 | 3,238
Total |  |  |  |  | 1335 |  | 108,082

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research.

[FR Doc. 2023-25509 Filed 11-17-23; 8:45 am]

BILLING CODE 4210-67-P